DEPARTMENT OF HOMELAND SECURITY

U.S. Immigration and Customs Enforcement

[1653-0054]

Agency Information Collection Activities; Extension, With Changes, of an Existing Information Collection: Training Plan for Science, Technology, Engineering and Mathematics (STEM) Optional Practical Training (OPT) Students

ACTION: 60-Day notice.

The Department of Homeland Security, U.S. Immigration and Customs Enforcement (USICE), is submitting the following information collection request for review and clearance in accordance with the Paperwork Reduction Act of 1995. The information collection is published in the Federal Register to obtain comments from the public and affected agencies. Comments are encouraged and will be accepted for sixty days until December 31, 2018.

Written comments and suggestions regarding items contained in this notice and especially with regard to the estimated public burden and associated response time should be directed to the PRA Clearance Officer for USICE and sent via electronic mail to icepra@ice.dhs.gov.

Written comments and suggestions from the public and affected agencies concerning the proposed collection of information should address one or more of the following four points:

(1) Evaluate whether the proposed collection of information is necessary for the proper performance of the functions of the agency, including whether the information will have practical utility;

(2) Evaluate the accuracy of the agencies' estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, with changes, of a currently approved information collection.

(2) Title of the Form/Collection: Training Plan for STEM OPT Students.

(3) Agency form number, if any, and the applicable component of the Department of Homeland Security sponsoring the collection: Form I-983, U.S. Immigration and Customs Enforcement.

(4) Affected public who will be asked or required to respond, as well as a brief abstract: Primary: Individuals or households. The Form I-983 serves as a planning document for STEM OPT students, the SEVP-certified school, and the employer. The Training Plan for STEM OPT Students also serves as an evidentiary document for SEVP, by tracking the STEM OPT student's progress, setting forth the terms and conditions of the practical training, and documenting the obligations of the three parties that are involved—the F student, the SEVP-certified school, and the employer.

The student and the employer must each complete and sign their part of the Form I-983. The SEVP certified school will incorporate the completed and signed Form I-983, as part of the student's school file. The SEVP-certified school will make the student's Form I-983 available to DHS upon request.

(5) An estimate of the total number of respondents and the amount of time estimated for an average respondent to respond:

Table 1—Calculation of Annual Reporting Burden for Training Plan
Function | Avg annual responses | Time per response (hours) | Avg annual hour burden
Student Burden
Initial Completion of Training Plan | 166,406 | 2.17 | 361,101
12-month Evaluation Requirements | 166,406 | 1.50 | 249,609
Sub-Total |  |  | 610,710
DSO Burden
Initial Review of Training Plan & Recordkeeping | 166,406 | 1.33 | 221,320
Review of Evaluation & Recordkeeping | 166,406 | 1.33 | 221,320
Sub-Total |  |  | 442,640
Employer Burden
Initial completion of Training Plan | 166,406 | 4.00 | 665,624
Evaluation Requirements | 166,406 | 0.75 | 124,805
Sub-Total |  |  | 790,429
Total Burden Hours |  |  | 1,843,779

(6) An estimate of the total public burden (in hours) associated with the collection: 1,843,779 annual burden hours.

Dated: October 29, 2018.
Scott Elmore,
PRA Clearance Officer, Office of the Chief Information Officer, U.S. Immigration and Customs Enforcement, Department of Homeland Security.

[FR Doc. 2018-23907 Filed 10-31-18; 8:45 am]

BILLING CODE 9111-28-P